SMALL BUSINESS ADMINISTRATION

[Disaster Declaration #12070 and #12071]

Oklahoma Disaster Number OK-00035

AGENCY: U.S. Small Business Administration.

ACTION: Amendment 1.

SUMMARY: This is an amendment of the Presidential declaration of a major disaster for Public Assistance Only for the State of Oklahoma (FEMA-1883-DR), dated 03/05/2010.

Incident: Severe Winter Storm.

Incident Period: 01/28/2010 through 01/30/2010.

Effective Date: 03/22/2010.

Physical Loan Application Deadline Date: 05/04/2010.

Economic Injury (EIDL) Loan Application Deadline Date: 12/06/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 03/05/2010, is hereby amended to include the following areas as adversely affected by the disaster.

Primary Counties: Beaver, Beckham, Blaine, Canadian, Cherokee, Craig, Creek, Custer, Garvin, Grant, Lincoln, Logan, Major, Mayes, Murray, Nowata, Okfuskee, Ottawa, Pawnee, Rogers, Sequoyah, Texas, Wagoner, Washington.

All other information in the original declaration remains unchanged.

(Catalog of Federal Domestic Assistance Numbers 59002 and 59008)

James E. Rivera,
Associate Administrator for Disaster Assistance.

[FR Doc. 2010-6960 Filed 3-29-10; 8:45 am]

BILLING CODE 8025-01-P